DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Pub. L. 104-121). It consists of a summary of rules appearing in Federal Acquisition Circular (FAC) 2001-07 which amend the FAR. An asterisk (*) next to a rule indicates that a regulatory flexibility analysis has been prepared in accordance with 5 U.S.C. 604. Interested parties may obtain further information regarding these rules by referring to FAC 2001-07 which precedes this document. These documents are also available via the Internet at http://www.arnet.gov/far.

FOR FURTHER INFORMATION CONTACT: Laurie Duarte, FAR Secretariat, (202) 501-4225. For clarification of content, contact the analyst whose name appears in the table below.

List of Rules in FAC 2001-07
Item | Subject | FAR case | Analyst
I | Preference for Performance-Based Contracting | 2000-307 | Wise.
II | Revisions to Balance Of Payments Program | 1999-616 | Davis.
III | European Union Trade Sanctions | 2001-002 | Davis.
IV | Technical Amendments

Item I—Preference for Performance-Based Contracting (FAR Case 2000-307)

This final rule converts the interim rule published as Item I of FAC 97-25 at 66 FR 22082, May 2, 2001, to a final rule with an amendment at FAR 7.105. The rule implements Section 821 of the Floyd D. Spence National Defense Authorization Act for Fiscal Year 2001 (Pub. L. 106-398). The rule affects contracting officers that buy services by explicitly establishing a preference for performance-based contracts or task orders. Guidance for performance-based contracting is available at the following websites:

http://www.arnet.gov/Library/OFPP/BestPractices/,

http://oamweb.osec.doc.gov/pbsc/index.html, or

http://www.gsa.gov/Portal/content/pubs_content.jsp?

contentOID=119969& contentType=1008&PMVP=1.

Item II—Revisions to Balance of Payments Program (FAR Case 1999-616)

This final rule amends the FAR by removing Subpart 25.3, Balance of Payments Program, and making conforming changes to FAR Parts 13, 25, and 52. This revision will reduce administrative burdens on both the Government and the public. The FAR no longer requires contracting officers to use balance of payments procedures to evaluate foreign offers when acquiring supplies for use outside the United States that are valued at more than $100,000, but not more than $186,000, or when awarding a construction contract to be performed outside the United States and valued at less than $6,909,500. However, the Balance of Payments Program will be continued in the Department of Defense, and a Defense Federal Acquisition Regulation Supplement rule is being processed for this purpose.

Item III—European Union Trade Sanctions (FAR Case 2001-002)

This final rule revises FAR 25.1103(c)(2)(i) to specifically exclude solicitations issued and contracts awarded by DoD from the clause prescription for the use of FAR clauses 52.225-15, Sanctioned European Union Country End Products, and 52.225-16, Sanctioned European Union Country Services. This rule is a clarification of existing policy. DoD contracting officers must ensure that the clauses implementing European Union trade sanctions are not included in DoD solicitations and contracts.

Item IV—Technical Amendments

These amendments update sections and make editorial changes at FAR 12.301, 52.214-20, and 52.244-2.

Dated: April 23, 2002.
Al Matera,
Director, Acquisition Policy Division.

[FR Doc. 02-10373 Filed 4-29-02; 8:45 am]

BILLING CODE 6820-EP-P